DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 4, 2013. Address written comments to Statutory Import Programs Staff, Room 3720, U.S. Department of Commerce, Washington, DC 20230. Applications may be examined between 8:30 a.m. and 5:00 p.m. at the U.S. Department of Commerce in Room 3720.

Docket Number: 12-060. Applicant: Vanderbilt University, 2201 West End Ave., Nashville, TN 37235. Instrument: Electron Microscope. Manufacturer: FEI Company, the Netherlands. Intended Use: The instrument will be used for the characterization of the structure and elemental distribution of nanomaterials such as quantum dots, nanostructured photovoltaic devices, and bio accumulation of nanomaterials in tissue cells. Justification for Duty-Free Entry: There are no instruments of the same general category manufactured in the United States. Application accepted by Commissioner of Customs: December 11, 2012.

Docket Number: 12-061. Applicant: Purdue University, 401 S. Grant St., West Lafayette, IN 47907-2024. Instrument: Electron Microscope. Manufacturer: FEI Company, the Netherlands. Intended Use: The instrument will be used to understand the morphology, such as size, shape of components, elemental composition, and relationships between structures of plant tissues, animal tissues, microorganisms, nanomaterials, and chemical compounds. Justification for Duty-Free Entry: There are no instruments of the same general category manufactured in the United States. Application accepted by Commissioner of Customs: August 21, 2012.

Docket Number: 12-067. Applicant: University of Pennsylvania, 3231 Walnut St., Philadelphia, PA 19104. Instrument: Electron Microscope. Manufacturer: JEOL Ltd., Japan. Intended Use: The instrument will be used to study the morphology or shape, composition, crystal structure, local bonding environment, hardness, and electrical properties of inorganic materials such as oxides, metals, ceramics, polymers, as well as organic materials such as tissue samples, in the size range from tenths of a nanometer to tens of micrometers. Justification for Duty-Free Entry: There are no instruments of the same general category manufactured in the United States. Application accepted by Commissioner of Customs: December 14, 2012.

Docket Number: 12-068. Applicant: National Center for Toxicological Research, USFDA, 3900 NCTR Rd., Jefferson, Arkansas 72079. Instrument: Electron Microscope. Manufacturer: Carl Zeiss, Germany. Intended Use: The instrument will be used to quantify the toxicological properties of nanoscale materials that are being regulated by the FDA, including metal oxides and carbon-based nanomaterials. The experiments will include determining the toxicity of nanoscale metal oxides in cultured cells, quantifying the distribution and toxicity of nanoscale silver and metal oxides in animals, and studying the migration of nanoscale materials from plastic materials. Justification for Duty-Free Entry: There are no instruments of the same general category manufactured in the United States. Application accepted by Commissioner of Customs: December 20, 2012.

Docket Number: 12-069. Applicant: Temple University, 1947 North 12th St., Philadelphia, PA 19122. Instrument: Electron Microscope. Manufacturer: FEI Company, Czech Republic. Intended Use: The instrument will be used for several projects such as improving the fabrication quality of a planar MgB2/TiB2/MgB2 Josephson junction, the development of a smart needling device for image-guided percutaneous intervention and delivery of therapeutic agents in prostate, and fracture mechanics in development of enhanced geothermal energy resources. Justification for Duty-Free Entry: There are no instruments of the same general category manufactured in the United States. Application accepted by Commissioner of Customs: December 20, 2012.

Dated: January 8, 2013.
Gregory W. Campbell,
Director of Subsidies Enforcement, Import Administration.

[FR Doc. 2013-00586 Filed 1-11-13; 8:45 am]

BILLING CODE 3510-DS-P